DEPARTMENT OF THE INTERIOR

Geological Survey

[DOI-2020-0017; 212G0804MD GGHDFA3500 GF0200000 GX20FA35SA40000]

Privacy Act of 1974; System of Records

AGENCY: United States Geological Survey, Interior.

ACTION: Rescindment of a system of records notice.

SUMMARY: In accordance with the Privacy Act of 1974, as amended, the Department of the Interior (DOI) is rescinding the system of records notice (SORN), INTERIOR/USGS-01, National Water Information System: NWIS. This notice was maintained by the United States Geological Survey (USGS) and is no longer required as the NWIS records are neither stored nor retrieved by use of an individual's personal identifier. All records in NWIS are stored and retrieved by site identification data. As such, NWIS does not meet the statutory definition of a system of records under the Privacy Act.

DATES: These changes take effect on August 10, 2021.

ADDRESSES: You may send comments identified by docket number [DOI-2020-0017] by any of the following methods:

• Federal eRulemaking Portal: http://www.regulations.gov. Follow the instructions for sending comments.

• Email: DOI_Privacy@ios.doi.gov. Include docket number [DOI-2020-0017] in the subject line of the message.

• U.S. mail or hand-delivery: Teri Barnett, Departmental Privacy Officer, U.S. Department of the Interior, 1849 C Street NW, Room 7112, Washington, DC 20240.

Instructions: All submissions received must include the agency name and docket number [DOI-2020-0017]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Cozenja Berry, Associate Privacy Officer, Office of Enterprise Information, U.S. Geological Survey, 12201 Sunrise Valley Drive, Room 4A209, Mail Stop 159, Reston, VA 20192, privacy@usgs.gov or (703) 648-7062.

SUPPLEMENTARY INFORMATION: Pursuant to the provisions of the Privacy Act of 1974, as amended, 5 U.S.C. 552a, DOI is rescinding the INTERIOR/USGS-01, National Water Information System: NWIS, SORN as this system of records no longer meets the statutory definition under the Privacy Act. This rescindment complies with the Privacy Act of 1974, and the Office of Management and Budget Circular A-108, Federal Agency Responsibilities for Review, Reporting, and Publication under the Privacy Act.

An assessment of NWIS records by the USGS Associate Privacy Officer revealed that the records contained therein are not stored, maintained or retrieved by use of an individual's personal identifier. The USGS Water Mission Area utilizes NWIS to preserve a repository of hydrologic data that is collected as part of cooperative hydrologic studies nation-wide. The records include contact information for individuals or groups that own or have physical control of access sites (site owners) where USGS collects groundwater data. Site owner contact information stored in NWIS includes name, address, phone number, and when provided an email address. The records in NWIS are saved and retrieved by use of the site identification data; records cannot be retrieved by use of the site owner's personal information. Indexing in NWIS is by the site name and number, with the site name being the name given to the body of water and the number a unique identifier assigned to that specific location (example Mississippi River near Bemidji, MN, 05200430). To narrow searches, other site identification data or attributes may be used to retrieve records (state/territory, regional water center, geographic coordinates, water body type, altitude, drainage zone, depth, or aquifer code/name). Controls are in place to ensure contact information is only accessible to authorized USGS personnel; it is not published or released to the public. Rescindment of this notice has no adverse impact on individual privacy of the site owners. The affected records will continue to be maintained under their disposition schedules as approved by the National Archives and Records Administration. This rescindment will promote the overall streamlining and management of DOI Privacy Act systems of records. Members of the public can access hydrological historical data via the NWIS web page (https://help.waterdata.usgs.gov/) or may request NWIS records under the provisions of the Freedom of Information Act (https://www.usgs.gov/about/organization/science-support/foia). This notice hereby rescinds INTERIOR/USGS-01, National Water Information System: NWIS.

SYSTEM NAME AND NUMBER:

INTERIOR/USGS-01, National Water Information System: NWIS.

HISTORY:

73 FR 54425 (September 19, 2008); modification published at 74 FR 23430 (May 19, 2009).

Teri Barnett,
Departmental Privacy Officer,Department of the Interior.

[FR Doc. 2021-16978 Filed 8-9-21; 8:45 am]

BILLING CODE 4338-11-P